DEPARTMENT OF ENERGY

Methane Hydrate Advisory Committee Meeting; Cancellation

AGENCY: Department of Energy.

ACTION: Notice of cancellation of open meeting.

SUMMARY: On Mary 11, 2016, the Department of Energy (DOE) published a notice of open meeting announcing a meeting on June 8, 2016, of the Methane Hydrate Advisory Committee. This notice announces the cancellation of this meeting. The meeting is being cancelled because the board will not have a quorum due to scheduling conflicts by members and presenters. DATES: The meeting scheduled for June 8, 2016, announced in the May 11, 2016, issue of the Federal Register (81 FR 29257), is cancelled.

FOR FURTHER INFORMATION CONTACT: Lou Capitanio, U.S. Department of Energy, Office of Oil and Natural Gas, 1000 Independence Avenue SW., Washington, DC 20585; Phone: (202) 586-5098.

Issued at Washington, DC, on May 27, 2016.
LaTanya R. Butler,
Deputy Committee Management Officer.

[FR Doc. 2016-13298 Filed 6-3-16; 8:45 am]

BILLING CODE 6450-01-P